SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: July 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. Borough of Adamstown, GF Certificate No. GF-201907036, Adamstown Borough, Lancaster County, Pa.; Wells 2 and 3; Issue Date: July 10, 2019.

2. New Holland Borough Authority, GF Certificate No. GF-201907037, Earl Township, Lancaster County, Pa.; Well 1; Issue Date: July 10, 2019.

3. West Manchester Township Authority, GF Certificate No. GF-201907038, West Manchester Township, York County, Pa.; Wells 2, 3, 4, 5, and 6; Issue Date: July 10, 2019.

4. Village of Greene, GF Certificate No. GF-201907039, Village of Greene, Chenango County, N.Y.; Wells 1 and 2; Issue Date: July 29, 2019.

5. Selinsgrove Municipal Authority, GF Certificate No. GF-201907040, Selinsgrove Borough, Snyder County, Pa.; Wells 1 and 2; Issue Date: July 29, 2019.

6. Shrewsbury Borough, GF Certificate No. GF-201907041, Shrewsbury Borough and Shrewsbury Township, York County, Pa.; the Thompson Well and the Lutheran Home Well; Issue Date: July 29, 2019..

Authority: Pub. L. 91-575, 84 Stat. 1509 et seq., 18 CFR parts 806 and 808.

Dated: August 20, 2019.
Jason E. Oyler,
General Counsel and Secretary to the Commission.

[FR Doc. 2019-20078 Filed 9-16-19; 8:45 am]

BILLING CODE 7040-01-P